GENERAL SERVICES ADMINISTRATION

Women's Progress Commemoration Commission

AGENCY: General Services Administration.

ACTION: Meeting notice.

SUMMARY: Notice is hereby given that the Women's Progress Commemoration Commission will hold an open meeting from 9:00 a.m. to 4:00 p.m. on Tuesday, December 5, 2000, at the Hilton of Santa Fe, 100 Sandoval Street, Santa Fe, NM 97501, (505) 988-2811.

PURPOSE: The Commission will meet to discuss their role in identifying and commemorating Women's History sites.

FOR FURTHER INFORMATION CONTACT: Martha Davis (202) 501-0705, Assistant to the Associate Administrator for Communications, General Services Administration. Also, inquiries may be sent to martha.davis@gsa.gov.

Dated: November 11, 2000.
Beth Newburger,
Associate Administrator for Communications.

[FR Doc. 00-29373 Filed 11-15-00; 8:45 am]

BILLING CODE 6820-34-M